DEPARTMENT OF HEALTH AND HUMAN SERVICES

Centers for Disease Control and Prevention

[60Day-25-0213; Docket No. CDC-2025-0027]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled National Vital Statistics Report Form. This data collection is used to report annual counts of marriages and divorces/annulments to the Federal government in support of the National Vital Statistics System.

DATES: CDC must receive written comments on or before August 15, 2025.

ADDRESSES: You may submit comments, identified by Docket No. CDC-2025-0027 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; telephone: 404-639-7570; email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

National Vital Statistics Report Form (OMB Control No. 0920-0213, Exp. 07/31/2025)—Extension—National Center for Health Statistics (NCHS), Centers for Disease Control and Prevention (CDC).

Background and Brief Description

The compilation of national vital statistics by the Federal government dates to the beginning of the 20th century. To administer these functions, the National Office of Vital Statistics was established in the Public Health Service in April 1953. In August of 1960, the National Office of Vital Statistics was reorganized as the Division of Vital Statistics in the newly created National Center for Health Statistics (NCHS), which is now part of the Centers for Disease Control and Prevention (CDC).

One of the functions of NCHS is to plan and administer a program to provide statistics on births, deaths, fetal deaths, marriages, and divorces reported in the National Vital Statistics System. This includes promoting the uniform collection of data on these events and providing technical assistance to the registration areas; conducting follow back surveys to expand the scope of national vital statistics beyond the data available from vital records; preparing life tables and analyses of life table phenomena; and investigating the quality and reliability of data and methodology.

One part of this function is to provide national final counts of marriage, and divorce occurrences following the end of each year. The collection of the data is authorized by 42 U.S.C. 242k. Provisional counts of marriages and divorces are disseminated electronically. This form is the sole source of final counts for these two events. These data have been published since 1937 and are the sole source of this information at the national level. The data are used by the Department of Health and Human Services (HHS) and by other government, academic, and private research organizations in tracking changes in trends of vital events. The counts of events requested on the form are necessary to the administration of this portion of the program.

CDC requests OMB approval for an estimated 46 annual burden hours. There are no costs to respondents other than their time.

Estimated Annualized Burden Hours
Type of respondents | Form name | Number of respondents | Number of responses per respondent | Average burden per response (in hours) | Total burden (in hours)
State, Territory, and New Mexico County Officials | Annual Vital Statistics Occurrence Report | 91 | 1 | 30/60 | 46
Total |  |  |  |  | 46

Jeffrey M. Zirger,
Lead, Information Collection Review Office, Office of Public Health Ethics and Regulations, Office of Science, Centers for Disease Control and Prevention.

[FR Doc. 2025-10858 Filed 6-13-25; 8:45 am]

BILLING CODE 4163-18-P